DEPARTMENT OF HOMELAND SECURITY

Transportation Security Administration

Extension of Agency Information Collection Activity Under OMB Review: National Explosives Detection Canine Team Program (NEDCTP) Handler Training Assessment Survey (Formerly Named: Graduate Training Feedback Form)

AGENCY: Transportation Security Administration, DHS.

ACTION: 30-day Notice.

SUMMARY: This notice announces that the Transportation Security Administration (TSA) has forwarded the Information Collection Request (ICR), Office of Management and Budget (OMB) control number 1652-0041 abstracted below, to OMB for review and approval of an extension of the currently approved collection under the Paperwork Reduction Act. The ICR describes the nature of the information collection and its expected burden. TSA published a Federal Register notice, with a 60-day comment period soliciting comments, of the following collection of information on October 27, 2009, 74 FR 55248. The collection involves the electronic submission of numerical ratings and written comments about the quality of training instruction from students who graduate from the NEDCTP Explosives Detection Canine Handlers Course.

DATES: Send your comments by March 1, 2010. A comment to OMB is most effective if OMB receives it within 30 days of publication.

ADDRESSES: Interested persons are invited to submit written comments on the proposed information collection to the Office of Information and Regulatory Affairs, Office of Management and Budget. Comments should be addressed to Desk Officer, Department of Homeland Security/TSA, and sent via electronic mail to oira_submission@omb.eop.gov or faxed to (202) 395-6974.

FOR FURTHER INFORMATION CONTACT: Joanna Johnson, TSA Paperwork Reduction Act (PRA) Officer, Office of Information Technology (OIT), TSA-40, Transportation Security Administration, 601 South 12th Street, Arlington, VA 20598-6040; telephone (571) 227-3651; e-mail TSAPRA@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Handler Training Assessment Survey.

Type of Request: Extension of a currently approved collection.

OMB Control Number: 1652-0041.

Forms(s): TSA Form 1935-1.

Affected Public: State and local employees, as well as TSA personnel who are trained to be TSA NEDCTP canine handlers.

Abstract: The Handler Training Assessment Survey captures from graduating students (State and local personnel, as well as TSA personnel trained to be TSA NEDCTP canine handlers) numerical ratings and written comments about the quality of training instruction at the NEDCTP Explosives Detection Canine Handlers Course. The State and local personnel participate in the TSA Grant program, which falls under the National Explosives Detection Canine Team Program. The data is collected electronically through the NEDCTP secure Canine Website (accessible by authorized personnel only) and provides valuable feedback to the Chief of the National Explosives Detection Canine Team Program and instructional staff and supervisors on how the training material was presented and received. Once reviewed, the feedback is used to improve the course curriculum and course of instruction.

Number of Respondents: Average 180 students per calendar year.

Estimated Annual Burden Hours: Approximately one hour per participant, 180 hours per calendar year.

Issued in Arlington, Virginia, on January 21, 2010.
Joanna Johnson,
TSA Paperwork Reduction Act Officer, Office of Information Technology.

[FR Doc. 2010-1724 Filed 1-27-10; 8:45 am]

BILLING CODE 9110-05-P